DEPARTMENT OF COMMERCE

Technology Administration

[Docket No.: 070208027-7028-01]

National Medal of Technology's Call for Nominations 2007

AGENCY: Technology Administration, Department of Commerce.

ACTION: Notice.

SUMMARY: The Department of Commerce's Technology Administration is accepting nominations for its National Medal of Technology (NMT) 2007 program.

Established by statute in 1980, the President of the United States awards the National Medal of Technology to our Nation's leading innovators. If you know of a candidate who has made an outstanding, lasting contribution to the economy through technology, you may obtain a nomination form from: http://www.technology.gov/medal.

DATES: The deadline for submission of an application is May 31, 2007.

ADDRESSES: The NMT Nomination form for the year 2007 may be obtained by visiting the Web site at http://www.technology.gov/medal. Please return the completed application to the National Medal of Technology Program at: NMT@technology.gov or by mail to: Technology Administration, U.S. Department of Commerce, 1401 Constitution Avenue, NW., Room 4824, Washington, DC 20230.

FOR FURTHER INFORMATION CONTACT: NMT@technology.gov or call the Technology Administration at 202/482-1575.

SUPPLEMENTARY INFORMATION: The National Medal of Technology is the highest honor awarded by the President of the United States to America's leading innovators. Enacted by statute in 1980, the Medal of Technology was first awarded in 1985. The Medal is given to individuals, teams, or companies who have improved the American economy and quality of life by their outstanding contributions through technology.

The primary purpose of the National Medal of Technology is to recognize American innovators whose vision, creativity, and brilliance in moving ideas to market have had a profound and lasting impact on our economy and way of life. The Medal highlights the national importance of fostering technological innovation based upon solid science, resulting in commercially successful products and services.

Eligibility And Criteria: Information on eligibility and nomination criteria is provided on the Nominations Guidelines Form at http://www.technology.gov/medal. Applicants that do not have internet access should contact Connie Chang, Research Director, Technology Administration at the email address or telephone number above to request this information.

Dated: February 23, 2007.
Robert Cresanti,
Under Secretary for Technology.

[FR Doc. E7-3631 Filed 3-1-07; 8:45 am]

BILLING CODE 3510-18-P